DEPARTMENT OF THE TREASURY

Submission for OMB Review; Comment Request

February 11, 2010.

The Department of the Treasury will submit the following public information collection requirements to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before March 21, 2011 to be assured of consideration.

Internal Revenue Service (IRS)

OMB Number: 1545-1201.

Type of Review: Revision to a currently approved collection.

Title: TD 8455—Election to Expense Certain Depreciable Business Assets.

Abstract: The regulations provide rules on the election described in section 179(b)(4); the apportionment of the dollar limitation among component members of a controlled group; the proper order for deducting the carryover of disallowed deduction; and the maintenance of information which permits the specific identification of each piece of section 179 property and reflects how and from whom such property was acquired and when such property was placed in service. The recordkeeping and reporting is necessary to monitor compliance with the section 179 rules.

Respondents: Private sector: Businesses or other for-profits.

Estimated Total Burden Hours: 15,000 hours.

OMB Number: 1545-1362.

Type of Review: Revision of a currently approved collection.

Title: Renewable Electricity, Refined Coal, and Indian Coal Production Credit.

Form: 8835.

Abstract: Filers claiming the general business credit for electricity produced from certain renewable resources under code sections 38 and 45 must file Form 8835.

Respondents: Private sector: Businesses or other for-profits.

Estimated Total Burden Hours: 1,045 hours.

OMB Number: 1545-1897.

Type of Review: Extension without change of a currently approved collection.

Title: REG-120616-03; TD 9145—Entry of Taxable Fuel (Final and Temporary); TD 9346—Entry of Taxable Fuel (Final Regulations and Removal of Temporary Regulations).

Abstract: The regulation imposes joint and several liabilities on the importer of record for the tax imposed on the entry of taxable fuel into the U.S.

Respondents: Private sector: Businesses or other for-profits.

Estimated Total Burden Hours: 281 hours.

Bureau Clearance Officer: Yvette Lawrence, Internal Revenue Service, 1111 Constitution Avenue, NW., Washington, DC 20224; (202) 927-4374

OMB Reviewer: Shagufta Ahmed, Office of Management and Budget, New Executive Office Building, Room 10235, Washington, DC 20503; (202) 395-7873.

Dawn D. Wolfgang,
Treasury PRA Clearance Officer.

[FR Doc. 2011-3752 Filed 2-17-11; 8:45 am]

BILLING CODE 4830-01-P